Proclamation 9249 of April 1, 2015

National Sexual Assault Awareness and Prevention Month, 2015

By the President of the United States of America

A Proclamation

As Americans, we each have the power to shape our country's course and contribute to the extraordinary task of perfecting our Union. For more than two centuries, progress has been won by ordinary citizens—women and men who joined arms and marched toward justice. This month, we are once again reminded that we can change our culture for the better by standing together against the quiet tolerance of sexual assault and refusing to accept the unacceptable.

Nearly one in five women in America has been a victim of rape or attempted rape. Every year, too many women and too many men are sexually assaulted and abused. This is an affront to our basic decency and humanity, and it must end. Sexual assault harms our communities, weakens the foundation of our Nation, and hurts those we love most. For survivors, the awful pain can take years to heal—sometimes it never does. When an individual's possibilities are limited by the scars of violence and abuse, our country is deprived of enormous potential. Sexual assault takes a collective toll on all of us, and it is everyone's responsibility not only to speak out, but also to take action against this injustice.

More than two decades ago, then United States Senator Joe Biden did both. At a time when many victims were stigmatized or left to suffer in silence, he authored the Violence Against Women Act, which would forever improve the way our country responds to sexual assault and domestic violence. In the decades since, our Nation has built on that progress. We have taken strides toward changing the way people think about sexual misconduct, making it clear that every person has the fundamental human right to be free from sexual assault and domestic violence.

Thanks to the work of advocates, community leaders, public servants, and courageous survivors who shared their stories, our Nation has come an incredibly long way. But from schools to military bases and throughout all communities in America, we must do more to end the crime of sexual assault. My Administration has made this a priority since day one, beginning with the establishment of the first-ever White House Advisor on Violence Against Women. And we will keep fighting as long as it takes.

We have taken action to strengthen our criminal justice system, uphold the civil rights of victims and survivors of sexual assault, and ensure that all people can live free from sexual violence. Now in its second year, the White House Task Force to Protect Students from Sexual Assault is helping schools live up to their obligations to educate students in safe environments. We continue to address the impact of sexual assault on persons living with or at risk for HIV/AIDS. I have also made clear that violence and abuse have no place in the finest military this world has ever known. And last fall, we launched the “It's On Us” campaign to let people know everyone has a role to play in preventing and effectively responding to sexual violence.

It's on parents and caregivers to teach their children to respect and value others. It's on teammates, classmates, and colleagues to recognize sexual misconduct and intervene to stop it. It's on all of us to work for the change we need to shift the attitudes and behaviors that allow sexual assault to go unnoticed, unreported, and unpunished. During National Sexual Assault Awareness and Prevention Month, let us commit to being part of the solution and rededicate ourselves to creating a society where violence is not tolerated, survivors are supported, and all people are able to pursue their fullest measure of happiness without fear of abuse or assault.

NOW, THEREFORE, I, BARACK OBAMA, President of the United States of America, by virtue of the authority vested in me by the Constitution and the laws of the United States, do hereby proclaim April 2015 as National Sexual Assault Awareness and Prevention Month. I urge all Americans to support survivors of sexual assault and work together to prevent these crimes in their communities.

IN WITNESS WHEREOF, I have hereunto set my hand this first day of April, in the year of our Lord two thousand fifteen, and of the Independence of the United States of America the two hundred and thirty-ninth.

[FR Doc. 2015-08032

Filed 4-3-15; 11:15 am]

Billing code 3295-F5